INTERNATIONAL TRADE COMMISSION

[Investigation Nos. 701-TA-453 and 731-TA-1136-1137 (Third Review)]

Sodium Nitrite From China and Germany

Determinations

On the basis of the record ¹ developed in the subject five-year reviews, the United States International Trade Commission (“Commission”) determines, pursuant to the Tariff Act of 1930 (“the Act”), that revocation of the antidumping and countervailing duty orders on sodium nitrite from China and the antidumping duty order on sodium nitrite from Germany would be likely to lead to continuation or recurrence of material injury to an industry in the United States within a reasonably foreseeable time.²

¹ The record is defined in § 207.2(f) of the Commission's Rules of Practice and Procedure (19 CFR 207.2(f)).

² Commissioner Rhonda K. Schmidtlein not participating.

Background

The Commission instituted these reviews on July 1, 2024 (89 FR 54536) and determined on October 4, 2024 that it would conduct expedited reviews (89 FR 85986, October 29, 2024).

The Commission made these determinations pursuant to section 751(c) of the Act (19 U.S.C. 1675(c)). It completed and filed its determinations in these reviews on January 31, 2025. The views of the Commission are contained in USITC Publication 5582 (January 2025), entitled Sodium Nitrite from China and Germany: Investigation Nos. 701-TA-453 and 731-TA-1136-1137 (Third Review).

By order of the Commission.
Issued: January 31, 2025.
Lisa Barton,
Secretary to the Commission.

[FR Doc. 2025-02260 Filed 2-4-25; 8:45 am]

BILLING CODE 7020-02-P